DEPARTMENT OF STATE

[Public Notice 8978]

Updated Call for Reviewers of the World Ocean Assessment

AGENCY: U.S. Department of State.

ACTION: Notice of a Certification.

The U.S. Department of State, in coordination with the National Ocean Council, requests expert review of the draft World Ocean Assessment.

The United Nations (UN) has embarked on a regular process for global reporting on, and assessment of, the state of the marine environment, including socioeconomic aspects, the product of which is called the World Ocean Assessment (WOA). The projected, revised completion date for the first WOA is September 2015. Subsequent WOAs are expected to be generated every five years to document trends in the state of the marine environment. The WOA includes more than fifty subjects grouped within four main themes: Marine environment and understanding of the ocean's role in the global integrated Earth system; food security and food safety; human activities that influence the ocean or are influenced by the ocean; and marine biological diversity. A scientific and technical summary will integrate content to show linkages through interdisciplinary subjects such as human impacts, ecosystem services, and habitats. More information regarding the evolution and methodology of the WOA can be found at www.worldoceanassessment.org.

This fall, UN Member States will have an opportunity to review the draft WOA, which is expected to comprise 50 chapters (approximately 15 pages each) and a 70-page technical summary; the outline (http://www.un.org/Depts/los/global_reporting/Outline_eng.pdf) illustrates the very wide range of expertise needed for such review. The Department of State invites experts in relevant fields of expertise to participate in the U.S. Government review of the draft WOA. Registration at www.review.globalchange.gov, a Web-based review and comment system, is currently open for experts planning to review the draft WOA. Registered experts will have access to the draft WOA on 20 December 2014 and will have until 5:00 p.m. (EST) 6 February 2015 to submit their review comments using the Web-based review and comment system. Detailed instructions for review and submission of comments are available at www.review.globalchange.gov.

A Review Coordination Team comprising Federal scientists and program managers will develop a consolidated U.S. Government review submission. Only comments received via the Web-based review and comment system within the comment period will be considered by the Review Coordination Team for inclusion in the U.S. Government review submission.

This certification will be published in the Federal Register.

Dated: December 12, 2014.
Evan T. Bloom,
Director, Office of Ocean and Polar Affairs, U.S. Department of State.

[FR Doc. 2014-29676 Filed 12-17-14; 8:45 am]

BILLING CODE 4710-09-P